DEPARTMENT OF TRANSPORTATION

Surface Transportation Board

[STB Finance Docket No. 34133]

S.D. Warren Company d/b/a Sappi Fine Paper North America—Acquisition and Operation Exemption—Maine Central Railroad Company and the Springfield Terminal Railway Company

On July 3, 2002, the S.D. Warren Company d.b.a. Sappi Fine Papers North America (Sappi), a non-carrier, filed a verified notice of exemption under 49 CFR 1150.31 to acquire from Maine Central Railroad Company and the Springfield Terminal Railway Company (collectively, Guilford) certain joint operating rights over a portion of the Guildford main line of railroad between milepost 8.55 and milepost 9.80 (line) in Skowhegan, ME, a distance of approximately 1.25 miles.

In its verified notice, Sappi states that its use of the line will be limited to movement of its own traffic and that its agreement with Guilford does not give it the right or the obligation to conduct common carrier operations on the line. Sappi has therefore filed a motion to dismiss the notice. The motion will be addressed by the Board in a subsequent decision.

Sappi also states that, while it has already executed an agreement with Guilford, it will not consummate this transaction until this notice becomes effective or is dismissed.

If the notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 34133, must be filed with the Surface Transportation Board, 1925 K Street, NW., Washington, DC 20423-0001. In addition, a copy of each pleading must be served on Briana K. O'Regan, Sappi Fine Paper North America, 225 Franklin Street, Boston, MA 02110.

Decided: July 25, 2002.
By the Board, David M. Konschnik, Director, Office of Proceedings.
Vernon A. Williams,
Secretary.

[FR Doc. 02-19309 Filed 7-31-02; 8:45 am]

BILLING CODE 4915-00-P